DEPARTMENT OF ENERGY

Federal Energy Regulatory Commission

Combined Notice of Filings #1

Take notice that the Commission received the following exempt wholesale generator filings:

Docket Numbers: EG20-107-000.

Applicants: LA3 West Baton Rouge, LLC.

Description: Self-Certification of EG of LA3 West Baton Rouge, LLC.

Filed Date: 3/24/20.

Accession Number: 20200324-5015.

Comments Due: 5 p.m. ET 4/14/20.

Take notice that the Commission received the following electric rate filings:

Docket Numbers: ER18-2280-005.

Applicants: Alliant Energy Corporate Services, Inc.

Description: Compliance filing: AECS Schedule 2 Compliance Filing to be effective 3/1/2019.

Filed Date: 3/24/20.

Accession Number: 20200324-5080.

Comments Due: 5 p.m. ET 4/14/20.

Docket Numbers: ER19-1934-003.

Applicants: Tucson Electric Power Company.

Description: Compliance filing: Order No. 845 Compliance Filing to be effective 5/22/2019.

Filed Date: 3/24/20.

Accession Number: 20200324-5081.

Comments Due: 5 p.m. ET 4/14/20.

Docket Numbers: ER19-1935-002.

Applicants: UNS Electric, Inc.

Description: Compliance filing: Order No. 845 Compliance Filing to be effective 5/22/2019.

Filed Date: 3/24/20.

Accession Number: 20200324-5079.

Comments Due: 5 p.m. ET 4/14/20.

Docket Numbers: ER19-1954-001.

Applicants: Southwest Power Pool, Inc.

Description: Compliance filing: Order No. 845 Compliance Filing in Response to Janaury 23 Order to be effective 12/31/9998.

Filed Date: 3/24/20.

Accession Number: 20200324-5087.

Comments Due: 5 p.m. ET 4/14/20.

Docket Numbers: ER20-1370-000.

Applicants: Idaho Power Company.

Description: § 205(d) Rate Filing: Attachment O, Section 8 to be effective 5/22/2020.

Filed Date: 3/23/20.

Accession Number: 20200323-5173.

Comments Due: 5 p.m. ET 4/13/20.

Docket Numbers: ER20-1371-000.

Applicants: Public Service Company of Colorado.

Description: Compliance filing: OATT_Att O-PSCo_Table 25_Change Eff Date to be effective 1/1/2020.

Filed Date: 3/24/20.

Accession Number: 20200324-5050.

Comments Due: 5 p.m. ET 4/14/20.

Docket Numbers: ER20-1372-000.

Applicants: Public Service Company of Colorado.

Description: Compliance filing: MB—Prod Depr Rate Rev Eff Date to be effective 1/1/2020.

Filed Date: 3/24/20.

Accession Number: 20200324-5053.

Comments Due: 5 p.m. ET 4/14/20.

Docket Numbers: ER20-1373-000.

Applicants: PJM Interconnection, L.L.C.

Description: § 205(d) Rate Filing: Original ISA, SA No. 5604; Queue No. AC1-164 to be effective 2/24/2020.

Filed Date: 3/24/20.

Accession Number: 20200324-5062.

Comments Due: 5 p.m. ET 4/14/20.

Docket Numbers: ER20-1374-000.

Applicants: Midcontinent Independent System Operator, Inc.

Description: § 205(d) Rate Filing: 2020-03-24_SA 3454 Entergy Arkansas—Flat Fork Solar GIA (J907) to be effective 3/10/2020.

Filed Date: 3/24/20.

Accession Number: 20200324-5077.

Comments Due: 5 p.m. ET 4/14/20.

Docket Numbers: ER20-1375-000.

Applicants: Southern California Edison Company.

Description: Tariff Cancellation: Notice of Cancellation SEPV Sierra & Division Solar Projects WDT290a & WDT290b to be effective 3/6/2020.

Filed Date: 3/24/20.

Accession Number: 20200324-5086.

Comments Due: 5 p.m. ET 4/14/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2020.
Nathaniel J. Davis, Sr.,
Deputy Secretary.

[FR Doc. 2020-06531 Filed 3-27-20; 8:45 am]

BILLING CODE 6717-01-P